DEPARTMENT OF LABOR

Employment and Training Administration

[NAFTA-005641]

VDO North America LLC, Winchester, VA; Notice of Termination of Investigation

Pursuant to Title V of the North American Free Trade Agreement Implementation Act (Pub. L. 103-182) concerning transitional adjustment assistance, hereinafter called NAFTA-TAA and in accordance with section 250(a), Subchapter D, Chapter 2, Title II, of the Trade Act of 1974, as amended (19 U.S.C. 2331), an investigation was initiated on December 18, 2001, in response to a petition filed by a company official, on behalf of workers at VDO North America LLC, Winchester, Virginia. Workers produce fuel systems, instrument clusters and other products.

The petitioner has requested that the petition be withdrawn with the intention to resubmit the petition no more than 40 days prior to the beginning of the shift in production of two product lines from the subject plant to Mexico. Consequently, further investigation in this case would serve no purpose, and the investigation has been terminated.

Signed in Washington, DC this 25th day of March, 2002.
Linda G. Poole,
Certifying Officer, Division of Trade Adjustment Assistance.

[FR Doc. 02-8274 Filed 4-4-02; 8:45 am]

BILLING CODE 4510-30-M